SURFACE TRANSPORTATION BOARD

60-Day Notice of Intent To Seek Extension of Approval: Information Collection Activities (Complaints, Petitions for Declaratory Orders, and Petitions for Relief Not Otherwise Specified)

AGENCY: Surface Transportation Board.

ACTION: Notice and request for comments.

SUMMARY: As part of its continuing effort to reduce paperwork burdens, and as required by the Paperwork Reduction Act of 1995, 44 U.S.C. 3501-3521 (PRA), the Surface Transportation Board (STB or Board) gives notice that it is requesting from the Office of Management and Budget (OMB) approval of an extension of the information collections required for (1) complaints filed under 49 U.S.C. 1321, 10701-10707, 11101 and 11701-11707 and 49 CFR 1111; (2) petitions for declaratory orders under 5 U.S.C. 554(e) and 49 U.S.C. 1321; and (3) catch-all petitions (for relief not otherwise specified) under 49 U.S.C. 1321 and 49 CFR part 1117. Under these statutory and regulatory sections, the Board provides procedures for persons to make a broad range of claims and to seek a broad range of remedies before the Board. The information collections relevant to these complaints and petitions are described separately below.

DATES: Comments on this information collection should be submitted by January 28, 2017.

ADDRESSES: Direct all comments to Chris Oehrle, PRA Officer, Surface Transportation Board, 395 E Street SW., Washington, DC 20423-0001, or to PRA@stb.gov. When submitting comments, please refer to “Paperwork Reduction Act Comments, Information Collection Activities.”

FOR FURTHER INFORMATION CONTACT: For further information regarding this collection, contact Michael Higgins, Deputy Director, Office of Public Assistance, Governmental Affairs, and Compliance at (202) 245-0284 or at Michael.Higgins@stb.gov. [Assistance for the hearing impaired is available through the Federal Information Relay Service (FIRS) at 1-800-877-8339.]

SUPPLEMENTARY INFORMATION: For each collection, comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collections

Collection Number 1

Title: Complaints under 49 CFR 1111.

OMB Control Number: 2140-0029.

STB Form Number: None.

Type of Review: Extension with change.

Respondents: Affected shippers, railroads and communities that seek redress for alleged violations related to unreasonable rates, unreasonable practices, service issues, and other statutory claims.

Number of Respondents: Three.

Estimated Time per Response: 467 hours.

Frequency: On occasion. In 2015, respondents filed three complaints of this type with the Board.

Total Burden Hours (annually including all respondents): 1,401 (estimated hours per complaint (467) × total number of complaints in 2015 (3)).

Total “Non-hour Burden” Cost: $4,386 (estimated non-hour burden cost per complaint ($1,462) × total number of complaints in 2015(3)).

Needs and Uses: Under the Board's regulations, persons may file complaints before the Board pursuant to 49 CFR part 1111 seeking redress for alleged violations of provisions of the Interstate Commerce Act, Public Law 104-88, 109 Stat. 803 (1995). The required content of a complaint is outlined at 49 CFR 1111.1(a). In the last few years, the most significant complaints filed at the Board allege that railroads are charging unreasonable rates or that they are engaging in unreasonable practices. See, e.g., 49 U.S.C. 10701, 10704, and 11701. The collection by the Board of these complaints, and the agency's action in conducting proceedings and ruling on the complaints, enables the Board to meet its statutory duty to regulate the rail industry.

Collection Number 2

Title: Petitions for declaratory orders.

OMB Control Number: 2140-0031.

STB Form Number: None.

Type of Review: Extension with change.

Respondents: Affected shippers, railroads and communities that seek a declaratory order from the Board to terminate a controversy or remove uncertainty.

Number of Respondents: 11.

Estimated Time per Response: 183 hours.

Frequency: On occasion. In 2015, respondents filed 12 petitions of this type with the Board.

Total Burden Hours (annually including all respondents): 2,196 hours (183 estimated hours per petition × total number of petitions in 2015 (12)).

Total “Non-hour Burden” Cost: $14,832 (estimated non-hour burden cost per petition ($1,236) × total number of petitions in 2015 (12)).

Needs and Uses: Under 5 U.S.C. 554(e) and 49 U.S.C. 1321, the Board may issue a declaratory order to terminate a controversy or remove uncertainty. Because petitions for a declaratory order cover a broad range of requests, the Board does not prescribe specific instructions for the filing of a petition for declaratory order. The collection by the Board of these petitions for declaratory order enables the Board to meet its statutory duty to regulate the rail industry.

Collection Number 3

Title: Petitions for relief not otherwise provided.

OMB Control Number: 2140-0030.

STB Form Number: None.

Type of Review: Extension with change.

Respondents: Affected shippers, railroads and communities that seek to address transportation-related issues under the Board's jurisdiction that are not otherwise specifically provided for under the Board's other regulatory provisions.

Number of Respondents: Five.

Estimated Time per Response: 24.5 hours.

Frequency: On occasion. In 2015, five petitions of this type were filed with the Board.

Total Burden Hours (annually including all respondents): 122.5 (estimated hours per petition (24.5) × total number of petitions in 2015 (five)).

Total “Non-hour Burden” Cost: $350 (estimated non-hour burden cost per petition ($70) × total number of petitions in 2015 (five)).

Needs and Uses: Under 49 U.S.C. 1321 and 49 CFR part 1117 (the Board's catch-all petition provision), shippers, railroads, and the public in general may seek relief (such as petitions seeking waivers of the Board's regulations) not otherwise specifically provided for under the Board's other regulatory provisions. Under section 1117.1, such petitions should contain three items: (a) A short, plain statement of jurisdiction, (b) a short, plain statement of petitioner's claim, and (c) request for relief. The collection by the Board of these petitions enables the Board to more fully meet its statutory duty to regulate the rail industry.

Under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: November 22, 2016.
Jeffrey Herzig,
Clearance Clerk.

[FR Doc. 2016-28613 Filed 11-28-16; 8:45 am]

BILLING CODE 4915-01-P